DEPARTMENT OF THE INTERIOR

National Park Service

[NPS-WASO-NRNHL-0411- 7274; 2280-665]

National Register of Historic Places; Notification of Pending Nominations and Related Actions

Nominations for the following properties being considered for listing or related actions in the National Register were received by the National Park Service before April 23, 2011. Pursuant to section 60.13 of 36 CFR part 60, written comments are being accepted concerning the significance of the nominated properties under the National Register criteria for evaluation. Comments may be forwarded by United States Postal Service, to the National Register of Historic Places, National Park Service, 1849 C St., NW., MS 2280, Washington, DC 20240; by all other carriers, National Register of Historic Places, National Park Service, 1201 Eye St., NW., 8th floor, Washington, DC 20005; or by fax, 202-371-6447. Written or faxed comments should be submitted May 26, 2011. Before including your address, phone number, e-mail address, or other personal identifying information in your comment, you should be aware that your entire comment—including your personal identifying information—may be made publicly available at any time. While you can ask us in your comment to withhold your personal identifying information from public review, we cannot guarantee that we will be able to do so.

J. Paul Loether,
Chief, National Register of Historic Places, National Historic Landmarks Program.

COLORADO

Mesa County

Calamity Camp, (Mining Industry in Colorado, MPS) Address Restricted, Gateway, 11000313

ILLINOIS

Cook County

Building at 7600-7604 South Cottage Grove Avenue, (Terra Cotta Commercial Buildings in Chatham—Greater Grand Crossing MPS) 7600-7604 S. Cottage Grove Ave., Chicago, 11000315

Building at 8000-8008 South Cottage Grove Avenue, (Terra Cotta Commercial Buildings in Chatham—Greater Grand Crossing MPS) 8000-8008 S. Cottage Grove Ave., Chicago, 11000316

Building at 8030 South Cottage Grove Avenue, (Terra Cotta Commercial Buildings in Chatham—Greater Grand Crossing MPS) 8030 S. Cottage Grove Ave., Chicago, 11000317

Building at 932-944 East 79th Street, (Terra Cotta Commercial Buildings in Chatham—Greater Grand Crossing MPS) 932-944 E. 79th St., Chicago, 11000314

Champlain Building, (Terra Cotta Commercial Buildings in Chatham—Greater Grand Crossing MPS) 635-637 E. 79th St., Chicago, 11000320

East 75th Street and South Cottage Grove Avenue Historic District, (Terra Cotta Commercial Buildings in Chatham—Greater Grand Crossing MPS) 7439-41,7445-53,7455-59,7500-7504,7452-58 S. Cottage Grove Ave., 802-810,749-759,737-743,745,748-758 E. 75th St., Chicago, 11000318

East 79th Street and South Cottage Grove Avenue Historic District, (Terra Cotta Commercial Buildings in Chatham—Greater Grand Crossing MPS) 7850-58,7851-59,7901-11 S. Evans,714-26,734-44,746-58,735-37,739-59,804-06,805-11 E. 79th St., Chicago, 11000319

O'Hanley Building, (Terra Cotta Commercial Buildings in Chatham—Greater Grand Crossing MPS) 7701-7705 S. Cottage Grove Ave., Chicago, 11000321

MARYLAND

Prince George's County

Clagett House at Cool Spring Manor, 17500 Clagett Landing Rd., Upper Marlboro, 11000322

MINNESOTA

Hennepin County

Abbott Hospital, 110 E. 18th St., Minneapolis, 11000323

St. Louis County

Duluth Armory, 1301-1305 London Rd., Duluth, 11000324

YWCA of Duluth, (Duluth's Central Business District, MPS) 202 W. 2nd St., Duluth, 11000325

NEW YORK

Delaware County

Schoolhouse No. 5, 5942 Dunk Hill Rd., Hamden, 11000326

Onondaga County

Huntley Apartments, 407-409 Stolp Ave., Syracuse, 11000327

OREGON

Lane County

Springfield Motors Buick Dealership, 702 N. A St., Springfield, 11000328

Williams, Lew, Chevrolet Dealership, 2020 Franklin Blvd., Eugene, 11000329

A request for REMOVAL has been made for the following resource:

INDIANA

Vanderburgh County

Buckingham Apartments (Downtown Evansville MRA) 314-316 SE. 3rd St., Evansville, 82000082

[FR Doc. 2011-11504 Filed 5-10-11; 8:45 am]

BILLING CODE 4312-51-P